DEPARTMENT OF HEALTH AND HUMAN SERVICES

National Institutes of Health

Interagency Coordinating Committee on the Validation of Alternative Methods Communities of Practice Webinar on Machine Learning in Toxicology: Fundamentals of Application and Interpretation; Notice of Public Webinar; Registration Information

AGENCY: National Institutes of Health, HHS.

ACTION: Notice.

SUMMARY: The Interagency Coordinating Committee on the Validation of Alternative Methods (ICCVAM) announces a public webinar “Machine Learning in Toxicology: Fundamentals of Application and Interpretation.” The webinar is organized on behalf of ICCVAM by the National Toxicology Program Interagency Center for the Evaluation of Alternative Toxicological Methods (NICEATM). Interested persons may participate via WebEx. Time will be allotted for questions from the audience.

DATES: Webinar: January 23, 2018, 1:00 p.m. to approximately 2:30 p.m. Eastern Standard Time (EST). Registration for the Webinar: December 18, 2017, until 2:30 p.m. on January 23, 2018.

ADDRESSES: Webinar web page: http://ntp.niehs.nih.gov/go/commprac-2018.

FOR FURTHER INFORMATION CONTACT: Dr. Warren Casey, Director, NICEATM; telephone: (984) 287-3118; email: warren.casey@nih.gov.

SUPPLEMENTARY INFORMATION: Background: ICCVAM promotes the development and validation of toxicity testing methods that protect human health and the environment while replacing, reducing, or refining animal use. ICCVAM also provides guidance to test method developers and facilitates collaborations that promote the development of new test methods. To address these goals, ICCVAM will hold a Communities of Practice webinar on “Machine Learning in Toxicology: Fundamentals of Application and Interpretation.”

The ICCVAM webinar will explore the fundamentals of machine learning approaches, including how they work, how they are interpreted, and precautions that should be taken when evaluating their output. It will feature presentations by two experts in use of machine learning in toxicity texting applications that will address issues specific to use of machine learning approaches in a regulatory context. Case studies will be presented to highlight where such techniques have been successfully applied both nationally and internationally. The preliminary agenda and additional information about presentations will be posted at http://ntp.niehs.nih.gov/go/commprac-2018 as available.

Webinar and Registration: This webinar is open to the public with time scheduled for questions by participants following each presentation. Registration for the webinar is required and is open through 2:30 p.m. on January 23, 2018. Registration is available at http://ntp.niehs.nih.gov/go/commprac-2018. Interested individuals are encouraged to visit this web page to stay abreast of the most current webinar information. Registrants will receive instructions on how to access and participate in the webinar in an email sent shortly before the webinar.

Individuals with disabilities who need accommodation to participate in this event should contact Elizabeth Maull at phone: (984) 287-3157 or email: maull@niehs.nih.gov. TTY users should contact the Federal TTY Relay Service at (800) 877-8339. Requests should be made at least five business days in advance of the event.

Background Information on ICCVAM and NICEATM: ICCVAM is an interagency committee composed of representatives from 16 federal regulatory and research agencies that require, use, generate, or disseminate toxicological and safety testing information. ICCVAM conducts technical evaluations of new, revised, and alternative safety testing methods and integrated testing strategies with regulatory applicability and promotes the scientific validation and regulatory acceptance of testing methods that more accurately assess the safety and hazards of chemicals and products and replace, reduce, or refine (enhance animal well-being and lessen or avoid pain and distress) animal use.

The ICCVAM Authorization Act of 2000 (42 U.S.C. 285l-3) establishes ICCVAM as a permanent interagency committee of the National Institute of Environmental Health Sciences and provides the authority for ICCVAM involvement in activities relevant to the development of alternative test methods. ICCVAM acts to ensure that new and revised test methods are validated to meet the needs of federal agencies, increase the efficiency and effectiveness of federal agency test method review, and optimize utilization of scientific expertise outside the federal government. Additional information about ICCVAM can be found at http://ntp.niehs.nih.gov/go/iccvam.

NICEATM administers ICCVAM, provides scientific and operational support for ICCVAM-related activities, and conducts and publishes analyses and evaluations of data from new, revised, and alternative testing approaches. NICEATM and ICCVAM work collaboratively to evaluate new and improved testing approaches applicable to the needs of U.S. federal agencies. NICEATM and ICCVAM welcome the public nomination of new, revised, and alternative test methods and strategies for validation studies and technical evaluations. Additional information about NICEATM can be found at http://ntp.niehs.nih.gov/go/niceatm.

Dated: December 20, 2017.
John R. Bucher,
Associate Director, National Toxicology Program.

[FR Doc. 2018-00120 Filed 1-5-18; 8:45 am]

BILLING CODE 4140-01-P